DEPARTMENT OF HEALTH AND HUMAN SERVICES

Centers for Disease Control and Prevention

[CDC-2018-0025; Docket Number NIOSH-308]

Final National Occupational Research Agenda for Musculoskeletal Health

AGENCY: National Institute for Occupational Safety and Health (NIOSH) of the Centers for Disease Control and Prevention (CDC), Department of Health and Human Services (HHS).

ACTION: Notice of availability.

SUMMARY: The National Institute for Occupational Safety and Health (NIOSH) of the Centers for Disease Control and Prevention (CDC), announces the availability of the final National Occupational Research Agenda for Musculoskeletal Health.

DATES: The final document was published on October 26, 2018 on the CDC website.

ADDRESSES: The document may be obtained at the following link: https://www.cdc.gov/nora/councils/mus/researchagenda.html.

FOR FURTHER INFORMATION CONTACT: Emily Novicki, M.A., M.P.H., (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On March 22, 2018, NIOSH published a request for public review in the Federal Register [83 FR 12580] of the draft version of the National Occupational Research Agenda for Musculoskeletal Health. All comments received were reviewed and addressed where appropriate.

Dated: November 5, 2018.
Frank J. Hearl,
Chief of Staff, National Institute for Occupational Safety and Health, Centers for Disease Control and Prevention.

[FR Doc. 2018-24445 Filed 11-7-18; 8:45 am]

BILLING CODE 4163-19-P